COMMISSION ON CIVIL RIGHTS

Sunshine Act Meeting Notice

AGENCY: United States Commission on Civil Rights.

ACTION: Notice of Commission Public Briefing, Civil Rights Implications of the Federal Use of Facial Recognition Technology, Notice of Commission Business Meeting, and Call for Public Comments

DATES: Friday, March 8, 2024, 10 a.m. ET.

ADDRESSES: The briefing is open to the public and can be attended via live stream on the Commission's YouTube page at: https://www.youtube.com/usccr.

FOR FURTHER INFORMATION CONTACT: Angelia Rorison (202) 376-8359; publicaffairs@usccr.gov.

SUPPLEMENTARY INFORMATION: The U.S. Commission on Civil Rights will hold a briefing on, Friday, March 8, 2024, on the civil rights implications of Facial Recognition Technology (FRT). This investigation will analyze how FRT is developed, how it is being utilized by federal agencies, emerging civil rights concerns, and safeguards the federal government is implementing to mitigate potential civil rights issues.

This briefing is open to the public and is accessible via live stream at https://www.youtube.com/usccr. (*Streaming information subject to change.)

Computer assisted real-time transcription (CART) will be provided. The web link to access CART (in English) on Friday, March 8, 2024, is https://www.streamtext.net/player?event=USCCR. Please note that CART is text-only translation that occurs in real time during the meeting and is not an exact transcript.

To request additional accommodations, persons with disabilities should email access@usccr.gov by Monday, March 6, 2024, indicating “accommodations” in the subject line.

Briefing Agenda for Civil Rights Implications of the Federal Use of Facial Recognition Technology

10:00 a.m.-5:00 p.m.

All times Eastern Standard Time

I. Introductory Remarks: 10:00-10:10 a.m.

II. Panel 1: Understanding FRT and Civil Rights Implications: 10:10-11:25 a.m.

III. Break: 11:25-11:35 a.m.

IV. Panel 2: Federal Government Utilization and Safeguard Implementation of FRT: 11:35 a.m.-12:50 p.m.

V. Lunch: 12:50-1:50 p.m.

VI. Panel 3: Guidance for Meaningful Federal Oversight: 1:50 p.m.-3:05 p.m.

VII. Break: 3:05-3:15 p.m.

VIII. Panel 4: Actions for Strengthening Responsible Federal FRT Practices and Policies: 3:15-4:30 p.m.

IX. Closing Remarks: 4:30-4:40 p.m.

X. Adjourn Meeting.

**Public Comments will be accepted through written testimony

*Schedule is subject to change.

Call for Public Comments

In addition to the testimony collected on Friday, March 8, 2024, via public briefing, the Commission welcomes the submission of material for consideration as we prepare our report. Please submit such information to frt@usccr.gov no later than April 8, 2024, or by mail to OCRE/Public Comments, ATTN: Facial Recognition Technology, U.S. Commission on Civil Rights, 1331 Pennsylvania Ave. NW, Suite 1150, Washington, DC 20425.

Dated: February 29, 2024.
Angelia Rorison,
USCCR Media and Communications Director.

[FR Doc. 2024-04581 Filed 2-29-24; 11:15 am]

BILLING CODE 6335-01-P